POSTAL REGULATORY COMMISSION

Sunshine Act Meetings

Name of Agency: Postal Regulatory Commission.

Time and Date: Wednesday, April 25, 2007 at 10:30 a.m.

Place: Commission conference room, 901 New York Avenue, NW., Suite 200, Washington, DC 20268-0001.

Status: Closed.

Matters to be Considered: Docket No. R2006-1—reconsideration of aspects of recommended decision for which reconsideration was sought by the U.S. Postal Service Governors in their March 19, 2007 decision.

For Further Information Contact: Stephen L. Sharfman, General Counsel, Postal Regulatory Commission, 901 New York Avenue, NW., Suite 200, Washington, DC 20268-0001, 202-789-6818.

Dated: April 24, 2007.
Steven W. Williams,
Secretary.

[FR Doc. 07-2086 Filed 4-24-07; 3:38 pm]

BILLING CODE 7710-FW-M